DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on September 18, 2025. See Supplementary Information section for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On September 18, 2025, OFAC determined that the persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

OFAC further determined that the persons identified below meet one or more of the criteria for designation pursuant to Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended).

As a result, the property and interests in property subject to U.S. jurisdiction of the following persons are blocked under the relevant sanctions authorities listed below.

Individuals

1. PONCE FELIX, Juan Jose (a.k.a. FELIX, Alejandro Fernandez; a.k.a. FELIX, Jesus Sanchez; a.k.a. SANCHEZ FELIX, Jesus Alexandro; a.k.a. SANCHEZ, Jesus Alejandro; a.k.a. “El Ruso”; a.k.a. “El Russo”; a.k.a. “Ginete”), Mexicali, Baja California, Mexico; DOB 20 May 1982; alt. DOB 20 Jun 1982; POB Sonora, Mexico; nationality Mexico; Gender Male; Secondary sanctions risk: section 1(b) of Executive Order 13224, as amended by Executive Order 13886; C.U.R.P. POFJ820520HSRNLN04 (Mexico) (individual) [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for being owned, controlled, or directed by, or having acted or purported to act for or on behalf of, directly or indirectly, the Sinaloa Cartel, a person whose property and interests in property are blocked pursuant to E.O. 13224, as amended.

2. ARCEGA AGUIRRE, Candelario (a.k.a. ARCEAGA AGUIRRE, Candelario; a.k.a. ESCARCEGA AGUIRRE, Candelario; a.k.a. “El Cande”), Tijuana, Baja California, Mexico; DOB 11 Jul 1968; POB Colima, Mexico; nationality Mexico; Gender Male; Secondary sanctions risk: section 1(b) of Executive Order 13224, as amended by Executive Order 13886; Passport N00300826 (Mexico); C.U.R.P. AEAC680711HCMRGN03 (Mexico) (individual) [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for being owned, controlled, or directed by, or having acted or purported to act for or on behalf of, directly or indirectly, the Sinaloa Cartel, a person whose property and interests in property are blocked pursuant to E.O. 13224, as amended.

3. BROWN FIGUEREDO, Hilda Araceli (a.k.a. BROWN DE JAIMES, Hilda Araceli), Playas de Rosarito, Baja California, Mexico; DOB 02 Oct 1970; POB Baja California, Mexico; nationality Mexico; Gender Female; Secondary sanctions risk: section 1(b) of Executive Order 13224, as amended by Executive Order 13886; Passport G41854935 (Mexico); C.U.R.P. BOFH701002MBCRGL02 (Mexico) (individual) [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for being owned, controlled, or directed by, or having acted or purported to act for or on behalf of, directly or indirectly, the Sinaloa Cartel, a person whose property and interests in property are blocked pursuant to E.O. 13224, as amended.

4. GONZALEZ LOMELI, Jesus, Playas de Rosarito, Baja California, Mexico; DOB 23 Aug 1979; POB Tijuana, Baja California, Mexico; nationality Mexico; Gender Male; Secondary sanctions risk: section 1(b) of Executive Order 13224, as amended by Executive Order 13886; Passport G19323961 (Mexico); C.U.R.P. GOLJ790823HBCNMS01 (Mexico) (individual) [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for being owned, controlled, or directed by, or having acted or purported to act for or on behalf of, directly or indirectly, the Sinaloa Cartel, a person whose property and interests in property are blocked pursuant to E.O. 13224, as amended.

5. HERRERA SANCHEZ, Karlo Omar (a.k.a. HERRERA SANCHEZ, Carlo Omar), Rosarito, Baja California, Mexico; DOB 19 Apr 1982; POB Baja California, Mexico; nationality Mexico; Gender Male; Secondary sanctions risk: section 1(b) of Executive Order 13224, as amended by Executive Order 13886; C.U.R.P. HESK820419HBCRNR08 (Mexico) (individual) [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for being owned, controlled, or directed by, or having acted or purported to act for or on behalf of, directly or indirectly, the Sinaloa Cartel, a person whose property and interests in property are blocked pursuant to E.O. 13224, as amended.

6. HERRERA SANCHEZ, Mario Alberto, Rosarito, Baja California, Mexico; DOB 02 Apr 1981; POB Baja California, Mexico; nationality Mexico; Gender Male; Secondary sanctions risk: section 1(b) of Executive Order 13224, as amended by Executive Order 13886; C.U.R.P. HESM810402HBCRNR04 (Mexico) (individual) [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for being owned, controlled, or directed by, or having acted or purported to act for or on behalf of, directly or indirectly, the Sinaloa Cartel, a person whose property and interests in property are blocked pursuant to E.O. 13224, as amended.

7. PAEZ PEREDA, Carlos Alberto, Laguna Colorada, Sinaloa, Mexico; DOB 27 Sep 1995; POB Sinaloa, Mexico; nationality Mexico; Gender Male; Secondary sanctions risk: section 1(b) of Executive Order 13224, as amended by Executive Order 13886; C.U.R.P. PAPC950927HSLZRR02 (Mexico) (individual) [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for owned, controlled, or being directed by, or having acted or purported to act for or on behalf of, directly or indirectly, the Sinaloa Cartel, a person whose property and interests in property are blocked pursuant to E.O. 13224, as amended.

Entities

1. LOS MAYOS (a.k.a. LA MAYIZA), Culiacan, Sinaloa, Mexico; Secondary sanctions risk: section 1(b) of Executive Order 13224, as amended by Executive Order 13886; Target Type Criminal Organization [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for being owned, controlled, or directed by, or having acted or purported to act for or on behalf of, directly or indirectly, the Sinaloa Cartel, a person whose property and interests in property are blocked pursuant to E.O. 13224, as amended.

2. GRUPO JRCP, S. DE R.L. (a.k.a. MARISCOS EL CAIMAN), Ensenada—Rosarito 1360, San Fernando, Playas de Rosarito, Baja California 22703, Mexico; Secondary sanctions risk: section 1(b) of Executive Order 13224, as amended by Executive Order 13886; Organization Established Date 28 Mar 2023; Organization Type: Restaurants and mobile food service activities; R.F.C. GJR230209738 (Mexico); Folio Mercantil No. N-2023023616 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

3. SABOR TAPATIO, S. DE R.L. DE C.V., Playas de Rosarito, Baja California, Mexico; Secondary sanctions risk: section 1(b) of Executive Order 13224, as amended by Executive Order 13886; Organization Established Date 14 Jun 2021; Organization Type: Restaurants and mobile food service activities; Folio Mercantil No. N-2021040792 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

4. GOTOCO ALIMENTOS PROCESADOS S. DE R.L. DE C.V. (a.k.a. EL REY DE LOS CANTARITOS), Blvd. Benito Juarez 4356, Playas de Rosarito, Baja California 22700, Mexico; Secondary sanctions risk: section 1(b) of Executive Order 13224, as amended by Executive Order 13886; Organization Established Date 23 Feb 2016; Organization Type: Restaurants and mobile food service activities; RFC GAP160115RL8 (Mexico); Folio Mercantil No. 906 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

5. ALIMENTOS Y DIVERSION INSURGENTES, S. DE R.L. DE C.V., Playas de Rosarito, Baja California, Mexico; Secondary sanctions risk: section 1(b) of Executive Order 13224, as amended by Executive Order 13886; Organization Established Date 25 Apr 2013; Organization Type: Other amusement and recreation activities; Folio Mercantil No. 772 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

6. COMPLEJO TURISTICO JJJ, S.A. DE C.V., Tijuana, Baja California, Mexico; Secondary sanctions risk: section 1(b) of Executive Order 13224, as amended by Executive Order 13886; Organization Established Date 18 Oct 2021; Organization Type: Real estate activities with own or leased property; Folio Mercantil No. N-2021076993 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

7. OPERADORA DE ESPECTACULOS, ALIMENTOS Y BEBIDAS J AND R S.A. DE C.V. (a.k.a. OPERADORA DE ESPECTACULOS, ALIMENTOS Y BEBIDAS J&R S.A. DE C.V.), Tijuana, Baja California, Mexico; Secondary sanctions risk: section 1(b) of Executive Order 13224, as amended by Executive Order 13886; Organization Established Date 26 Mar 2020; Organization Type: Restaurants and mobile food service activities; Folio Mercantil No. N-2020019416 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

8. SUNSET SERVICIOS GASTRONOMICOS S. DE R.L. DE C.V., Tijuana, Baja California, Mexico; Secondary sanctions risk: section 1(b) of Executive Order 13224, as amended by Executive Order 13886; Organization Established Date 20 Jan 2017; Organization Type: Restaurants and mobile food service activities; Folio Mercantil No. N-2017005115 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

9. JJ GONVER S. DE R.L. DE C.V., Tijuana, Baja California, Mexico; Secondary sanctions risk: section 1(b) of Executive Order 13224, as amended by Executive Order 13886; Organization Established Date 01 Nov 2018; Organization Type: Restaurants and mobile food service activities; Folio Mercantil No. N-2018089050 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

10. OPERADORA DE ALIMENTOS CON ORIGENES DE MEXICO, S. DE R.L. DE C.V., Playas de Rosarito, Baja California, Mexico; Secondary sanctions risk: section 1(b) of Executive Order 13224, as amended by Executive Order 13886; Organization Established Date 07 Jun 2022; Organization Type: Restaurants and mobile food service activities; Folio Mercantil No. N-2022040331 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

11. VEINTIUNO MEXICALI, S. DE R.L. DE C.V., Guadalajara, Jalisco, Mexico; Secondary sanctions risk: section 1(b) of Executive Order 13224, as amended by Executive Order 13886; Organization Established Date 06 May 2021; Organization Type: Restaurants and mobile food service activities; Folio Mercantil No. N-2021030181 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

12. COCO BEACH BAR, S. DE R.L. DE C.V. (a.k.a. “COCO BEACH CLUB”), Av. Rosarito 499, Zona Centro, Playas de Rosarito, Baja California 22710, Mexico; website http://www.cocobeachrosarito.com/; Secondary sanctions risk: section 1(b) of Executive Order 13224, as amended by Executive Order 13886; Organization Established Date 13 Jul 2016; Organization Type: Restaurants and mobile food service activities; Folio Mercantil No. N-2016010376 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

13. CAVALLY ANTRO AND BAR (a.k.a. CAVALLY ANTRO & BAR), Calle Xavier Villa Urrutia 1205, Tijuana, Baja California, Mexico; Secondary sanctions risk: section 1(b) of Executive Order 13224, as amended by Executive Order 13886; Organization Established Date 01 Jun 2016; Organization Type: Restaurants and mobile food service activities [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

14. GRUPO HOTELERO JJJ, S.A. DE C.V., Tijuana, Baja California, Mexico; Secondary sanctions risk: section 1(b) of Executive Order 13224, as amended by Executive Order 13886; Organization Established Date 18 Oct 2021; Organization Type: Real estate activities with own or leased property; Folio Mercantil No. N-2021077001 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

15. JR ALIMENTOS DEL MAR, S. DE R.L. DE C.V. (a.k.a. BOMBAY BEACH CLUB), Eucalipto 10102, Playas de Rosarito, Baja California 22700, Mexico; website https://bombayrosarito.com/; Secondary sanctions risk: section 1(b) of Executive Order 13224, as amended by Executive Order 13886; Organization Established Date 13 Jul 2016; Organization Type: Restaurants and mobile food service activities; R.F.C. JAM160616N96 (Mexico); Folio Mercantil No. N-2016010379 (Mexico) [SDGT] [ILLICIT-DRUGS-EO14059] (Linked To: GONZALEZ LOMELI, Jesus).

Designated pursuant to section 1(b)(iii) of E.O. 14059 for being owned, controlled, or directed by, or having acted or purported to act for or on behalf of, directly or indirectly, Jesus Gonzalez Lomeli, a person whose property and interests in property are blocked pursuant to E.O. 14059.

Designated pursuant to section 1(a)(iii)(A) of E.O. 13224, as amended, for being owned, controlled, or directed by, or having acted or purported to act for or on behalf of, directly or indirectly, Jesus Gonzalez Lomeli, a person whose property and interests in property are blocked pursuant to E.O. 13224, as amended.

16. TRANSPORTE URBANO Y SUBURBANO DEL V MUNICIPIO S.A. DE C.V., Playas de Rosarito, Baja California, Mexico; Secondary sanctions risk: section 1(b) of Executive Order 13224, as amended by Executive Order 13886; Organization Established Date 17 Sep 2007; Organization Type: Other transportation support activities; Folio Mercantil No. 471 (Mexico) [SDGT] [ILLICIT-DRUGS-EO14059] (Linked To: ARCEGA AGUIRRE, Candelario).

Designated pursuant to section 1(b)(iii) of E.O. 14059 for being owned, controlled, or directed by, or having acted or purported to act for or on behalf of, directly or indirectly, Candelario Arcega Aguirre, a person whose property and interests in property are blocked pursuant to E.O. 14059.

Designated pursuant to section 1(a)(iii)(A) of E.O. 13224, as amended, for being owned, controlled, or directed by, or having acted or purported to act for or on behalf of, directly or indirectly, Candelario Arcega Aguirre, a person whose property and interests in property are blocked pursuant to E.O. 13224, as amended.

Bradley T. Smith,
Director, Office of Foreign Assets Control.

[FR Doc. 2026-03941 Filed 2-26-26; 8:45 am]

BILLING CODE 4810-AL-P